DEPARTMENT OF STATE

[Public Notice: 4436]

Determination Pursuant to Section 1(b) of Executive Order 13224 Relating to Shamil Basayev

Acting under the authority of section 1(b) of Executive Order 13224 of September 23, 2001, as amended by Executive Order 13286 of July 2, 2002, and Executive Order 13284 of January 23, 2003, and in consultation with the Secretary of the Treasury, the Attorney General, and the Secretary of Homeland Security, I hereby determine that Shamil Basayev [Date of Birth: 1/14/1965, Place of Birth: Chechen village of Dyshni-Vedeno] has committed, or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice need be provided to any person subject to this determination who might have a constitutional presence in the United States because to do so would render ineffectual the measures authorized in the Order.

This notice shall be published in the Federal Register.

Dated: August 4, 2003.
Colin L. Powell,
Secretary of State, Department of State.

[FR Doc. 03-20310 Filed 8-7-03; 8:45 am]

BILLING CODE 4710-10-P